BOARD OF GOVERNORS OF THE FEDERAL RESERVE SYSTEM

Sunshine Act Meeting

Agency Holding the Meeting: Board of Governors of the Federal Reserve System.

Time and Date: 10 a.m., Thursday, October 31, 2002.

Place: Marriner S. Eccles Federal Reserve Board Building, 20th Street entrance between Constitution Avenue and C Streets, NW., Washington, DC 20551.

Status: Open.

We ask that you notify us in advance if you plan to attend the open meeting and provide your name, date of birth, and social security number (SSN) or passport number. You may provide this information by calling (202) 452-2474 or you may register on-line. You may pre-register until close of business October 30, 2002. You also will be asked to provide identifying information, including a photo ID, before being admitted to the Board meeting. The Public Affairs Office must approve the use of cameras; please call (202) 452-2955 for further information.

Privacy Act Notice: Providing the information requested is voluntary; however, failure to provide your name, date of birth, and social security number or passport number may result in denial of entry to the Federal Reserve Board. This information is solicited pursuant to Sections 10 and 11 of the Federal Reserve Act and will be used to facilitate a search of law enforcement databases to confirm that no threat is posed to Board employees or property. It may be disclosed to other persons to evaluate a potential threat. The information also may be provided to law enforcement agencies, courts and others, but only to the extent necessary to investigate or prosecute a violation of law.

Matters to be Considered:

Summary Agenda

Because of the routine nature, no discussion of the following item is anticipated. The matter will be voted on without discussion unless a member of the Board requests that the item be moved to the discussion agenda.

1. Proposed 2003 Private Sector Adjustment Factor.

Discussion Agenda

2. Final amendments to Regulation B (Equal Credit Opportunity) that would conclude the Board's review of the regulation. (Proposed earlier for public comment; Docket No. 1008)

3. Final amendments to Regulation A (Extensions of Credit by Federal Reserve Banks) and Regulation D (Reserve Requirements for Depository Institutions) that would implement revisions to discount-window programs. (Proposed earlier for public comment; Docket No. 1123)

4. Proposals regarding sections 23A and 23B of the Federal Reserve Act:

a. Final rules that would comprehensively implement sections 23A and 23B through new Regulation W (Transactions Between Member Banks and Their Affiliates). (Proposed earlier for public comment; Docket No. 1103); and rescind the Board's existing formal interpretations of sections 23A and 23B in light of Regulation W; and

b. Publish for comment a proposed rule that would limit the availability of an exemption from section 23A provided in section 250.250 of the Board's formal interpretations for loans purchased by a bank from an affiliate.

5. Proposed 2003 fees for priced services and electronic connections.

6. Any items carried forward from a previously announced meeting.

Note: This meeting will be recorded for the benefit of those unable to attend. Cassettes will be available for listening in the Board's Freedom of Information Office and copies may be ordered for $6 per cassette by calling 202-452-3684 or by writing to: Freedom of Information Office, Board of Governors of the Federal Reserve System, Washington, DC 20551.

FOR FURTHER INFORMATION CONTACT: Michelle A. Smith, Assistant to the Board; 202-452-2955.

SUPPLEMENTARY INFORMATION: You may call 202-452-3206 for a recorded announcement of this meeting; or you may contact the Board's Web site at http://www.federalreserve.gov for an electronic announcement. (The Web site also includes procedural and other information about the open meeting.)

Dated: October 24, 2002.
Robert deV. Frierson,
Deputy Secretary of the Board.

[FR Doc. 02-27524 Filed 10-24-02; 3:07 pm]

BILLING CODE 6210-01-P